SMALL BUSINESS ADMINISTRATION

[Disaster Declaration # 14581 and # 14582]

Texas Disaster Number TX-00462

AGENCY: U.S. Small Business Administration

ACTION: Amendment 1.

SUMMARY: This is an amendment of the Presidential declaration of a major disaster for Public Assistance Only for the State of Texas (FEMA-4245-DR), dated 12/24/2015.

Incident: Severe Storms, Tornadoes, Straight-line Winds, and Flooding.

Incident Period: 10/22/2015 through 10/31/2015.

Effective Date: 01/29/2016.

Physical Loan Application Deadline Date: 02/22/2016.

Economic Injury (EIDL) Loan Application Deadline Date: 09/26/2016.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of TEXAS, dated 12/24/2015, is hereby amended to include the following areas as adversely affected by the disaster.

Primary Counties: Smith.

All other information in the original declaration remains unchanged.

(Catalog of Federal Domestic Assistance Numbers 59008)

James E. Rivera,
Associate Administrator for Disaster Assistance.

[FR Doc. 2016-02562 Filed 2-8-16; 8:45 am]

BILLING CODE 8025-01-P